DEPARTMENT OF HOMELAND SECURITY

U.S. Immigration and Customs Enforcement

[Docket No. ICEB-2024-0006]

RIN 1653-ZA50

Employment Authorization for Haitian F-1 Nonimmigrant Students Experiencing Severe Economic Hardship as a Direct Result of the Current Crisis in Haiti

AGENCY: U.S. Immigration and Customs Enforcement; Department of Homeland Security.

ACTION: Notice.

SUMMARY: The Department of Homeland Security (DHS) is suspending certain regulatory requirements for F-1 nonimmigrant students from Haiti who are experiencing severe economic hardship as a direct result of the current crisis in Haiti. The Secretary of Homeland Security (Secretary) is providing relief to these students who are in lawful F-1 nonimmigrant status, so the students may request employment authorization, work an increased number of hours while school is in session, and reduce their course load while continuing to maintain their F-1 nonimmigrant status.

DATES: This action covers eligible Haitian F-1 nonimmigrant students beginning on August 4, 2024, and ending on February 3, 2026.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is Haiti regardless of country of birth (or individuals having no nationality who last habitually resided in Haiti), who are present in the United States in lawful F-1 nonimmigrant student status on the date of publication of this notice, and who are experiencing severe economic hardship as a direct result of the current crisis in Haiti. The original notice, which applied to F-1 nonimmigrant students who met certain criteria, including having been lawfully present in the United States in F-1 nonimmigrant status on January 12, 2010, was effective from September 15, 2010, until July 22, 2011. See 75 FR 56120 (Sep. 15, 2010). A subsequent notice provided for an extension from July 22, 2011, until January 22, 2013. See 76 FR 28997 (May 19, 2011). A third notice provided another extension from October 1, 2012, through July 22, 2014. See 77 FR 59942 (Oct. 1, 2012). A fourth notice provided for another extension from March 3, 2014, until January 22, 2016. See 79 FR 11805 (Mar. 3, 2014). A fifth notice provided for another extension from August 25, 2015, until July 22, 2017. See 80 FR 51579 (Aug. 25, 2015). A new notice was issued on August 3, 2021, expanding the eligible population, and was effective from August 3, 2021, through February 3, 2023. See 86 FR 41857 (Aug. 3, 2021). Most recently, DHS issued another notice which applied to F-1 nonimmigrant students who met certain criteria, including having been lawfully present in the United States in F-1 nonimmigrant status on January 26, 2023, and was effective from February 4, 2023, through August 3, 2024. See 88 FR 5016 (Jan. 26, 2023). Effective with this publication, suspension of the employment limitations is available through February 3, 2026, for those who are in lawful F-1 nonimmigrant status on the date of publication of this notice. DHS will deem an F-1 nonimmigrant student granted employment authorization through this Notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of February 3, 2026, provided the student satisfies the minimum course load requirements in this notice.

Who is covered by this notice?

This notice applies exclusively to F-1 nonimmigrant students who meet all of the following conditions:

(1) Are a citizen of Haiti regardless of country of birth (or an individual having no nationality who last habitually resided in Haiti);

(2) Were lawfully present in the United States on the date of publication of this notice in F-1 nonimmigrant status under section 101(a)(15)(F)(i) of the Immigration and Nationality Act (INA), 8 U.S.C. 1101(a)(15)(F)(i);

(3) Are enrolled in an academic institution that is Student and Exchange Visitor Program (SEVP)-certified for enrollment for F-1 nonimmigrant students;

(4) Are currently maintaining F-1 nonimmigrant status; and

(5) Are experiencing severe economic hardship as a direct result of the current crisis in Haiti.

This notice applies to F-1 nonimmigrant students in an approved private school in kindergarten through grade 12, public school grades 9 through 12, and undergraduate and graduate education. An F-1 nonimmigrant student covered by this notice who transfers to another SEVP-certified academic institution remains eligible for the relief provided by means of this notice.

Why is DHS taking this action?

DHS is taking action to provide relief to Haitian F-1 nonimmigrant students experiencing severe economic hardship due to the current crisis in Haiti. Based on its review of country conditions in Haiti and input received from the U.S. Department of State (DOS), DHS is taking action to allow eligible F-1 nonimmigrant students from Haiti to request employment authorization, work an increased number of hours while school is in session, and reduce their course load while continuing to maintain F-1 nonimmigrant student status.

The security situation in Haiti has deteriorated drastically as violent criminal groups have expanded their areas of control throughout Haiti, disrupting the social and economic lives of many Haitians.² In September 2023, the Congressional Research Service (CRS) noted that “Haiti lacks an elected president and legislature following the July 2021 assassination of President Jovenel Moise.” ³ This destabilizing political and security situation has made it difficult for Haiti to effectively combat the worsening security and humanitarian crises which has been exacerbated by increased gang violence, shortages of food and fuel, and a resurgence of cholera.⁴

² “Living a Nightmare”: Haiti Needs an Urgent Rights-Based Response to Escalating Crisis, Human Rights Watch, Aug. 14, 2023, available at https://www.hrw.org/report/2023/08/14/living-nightmare/haiti-needs-urgent-rights-based-response-escalating-crisis (last visited Jan. 22, 2024).

³ Clare Ribando Seelke and Karla I. Rios, Haiti: Recent Developments and U.S. Policy, Congressional Research Service (CRS), Sep.18, 2023, available at https://sgp.fas.org/crs/row/R47394.pdf (last visited Jan. 19, 2024).

⁴ Id.

Security and Political Concerns

Haiti is divided into ten departments, and gang violence heavily affects at least three of them, with gang presence established in at least six departments.⁵ Gang violence has escalated and expanded, “spreading from the capital Port-au-Prince through the center of the country to its two other major cities, Gonaives [Artibonite department] and Cap-Haïtien [Nord department], with a significant increase in killings, kidnappings and rapes in the past few months [mid-2023].” ⁶ In January 2024, the United Nations Integrated Office in Haiti (BINUH) reported that the Ouest department, where Port-au-Prince is located, has also been “affected by extreme insecurity marked by indiscriminate armed gang violence against civilians and attacks against police units and infrastructure.” ⁷ In addition, gang influence in Haiti has grown at an “alarming rate” to sections of Port-au-Prince that were “previously less affected” by gangs.⁸

⁵ Haiti: Humanitarian impact of gang violence, ACAPS, June 2, 2023, available at https://reliefweb.int/report/haiti/acaps-briefing-note-haiti-humanitarian-impact-gang-violence-02-june-2023 (last visited Jan. 24, 2024).

⁶ Edith M. Lederer, Gang violence in Haiti is escalating and spreading with a significant increase in killings, UN says, The Associated Press, Sep. 27, 2023, available at https://apnews.com/article/haiti-gang-violence-un-report-killings-5d3f7ff272b7303852869dfc67692a23 (last visited Jan. 19, 2024).

⁷ United Nations Integrated Office in Haiti—Report of the Secretary-General, UN Security Council, p.3, Jan. 15, 2024, available at https://reliefweb.int/report/haiti/united-nations-integrated-office-haiti-report-secretary-general-s202462-enarruzh (last visited Jan. 23, 2024).

⁸ Id.

As of September 2023, gangs reportedly controlled or influenced “about 80 percent of the Port-au-Prince metropolitan area,” while “the remaining 20 percent” suffered “from the incursions by gangs looking to conduct kidnappings, robberies, murders, and other crimes.” ⁹ Reports of homicides and kidnappings increased significantly in 2023. BINUH reported a 119.4 percent increase in homicides from 2022 and an 83 percent increase in kidnappings from 2022.¹⁰

⁹ Final report of the Panel of Experts on Haiti, UN Security Council, Sep. 15, 2023, available at https://www.securitycouncilreport.org/atf/cf/%7B65BFCF9B-6D27-4E9C-8CD3-CF6E4FF96FF9%7D/s-2023-647.pdf (last visited Apr. 30, 2024).

¹⁰ United Nations Integrated Office in Haiti—Report of the Secretary-General, UN Security Council, Jan. 15, 2024, available at https://reliefweb.int/report/haiti/united-nations-integrated-office-haiti-report-secretary-general-s202462-enarruzh (last visited Jan. 23, 2024).

The acting Prime Minister of Haiti, Ariel Henry, traveled abroad at the beginning of 2024 for international engagements. During his travel, a series of coordinated gang attacks began against targets in Haiti's capital and beyond, freeing over 4,000 inmates and closing the country's main international airport. Since then, Henry has been unable to return to Haiti.¹¹ On March 6, 2024, Jimmy “Barbecue” Cherizier, the leader of one of Haiti's most powerful gang alliances, the G9, warned that unless Henry stepped down, there would be civil war and genocide in Haiti.¹² In March 2024, Caribbean Community (CARICOM) leaders, with agreement from key Haitian stakeholders, announced that Henry will resign once a transitional presidential council is established and an interim leader is selected.¹³ Additionally, Haiti currently has no elected officials.¹⁴ Haiti has not held a national election since 2016, and since the 2021 assassination of president Jovenel Moise, Haiti has lacked a president.¹⁵ On April 24, 2024, Henry officially resigned as acting Prime Minister of Haiti, clearing the way for a new government to be formed.¹⁶ Also, on April 24, 2024, the council tasked with choosing a new prime minister and Cabinet for Haiti was due to be sworn in.¹⁷ This council was set to be installed more than a month after Caribbean leaders announced its creation in response to the growing crisis in Haiti.¹⁸ The council is also expected to help set the agenda of a new Cabinet.¹⁹ On April 30, 2024, the recently installed transitional council unexpectedly selected Fritz Bélizaire as the new prime minister of Haiti and Edgard Leblanc Fils as the council president.²⁰

¹¹ Dánica Coto, Haiti's prime minister is locked out of his country and faces pressure to resign, The Associated Press, Mar. 8, 2024, available at https://apnews.com/article/haiti-prime-minister-gangs-resign-e583a191a2f800bc63752220a47dec0d (last visited Mar. 11, 2024).

¹² Haiti's top gang leader warns of “civil war that will lead to genocide” unless prime minister steps down, CBS News, Mar. 6, 2024, available at https://www.cbsnews.com/news/haiti-gang-leader-jimmy-cherizier-warns-civil-war-genocide/ (last visited on Mar. 11, 2024).

¹³ Widlore Mérancourt, Samantha Schmidt, and Amanda Coletta, Haitian prime minister to resign, clearing way for new government, The Washington Post, Mar. 12, 2024, available at https://www.washingtonpost.com/world/2024/03/12/haitian-prime-minister-resign-clearing-way-new-government/ (last visited on Mar. 12, 2024).

¹⁴ Top UN expert warns of deteriorating situation in Haiti: `It's apocalyptic', The Guardian, April 2024, available at https://www.theguardian.com/world/2024/apr/04/un-expert-haiti-gang-violence (last visited Apr. 16, 2024).

¹⁵ Id.

¹⁶ Ariel Henry resigns as prime minister of Haiti, wracked by gang violence, paving the way for new government to take power, PBS, Apr. 25, 2024, available at https://www.pbs.org/newshour/world/ariel-henry-resigns-as-prime-minister-of-haiti-wracked-by-gang-violence-paving-the-way-for-new-government-to-take-power (last visited May 13, 2024).

¹⁷ Id.

¹⁸ Id.

¹⁹ Id.

²⁰ The announcement of a new prime minister divides Haiti's transitional council, NPR, May 1, 2024, available at https://www.npr.org/2024/05/01/1248397751/the-announcement-of-a-new-prime-minister-divides-haitis-transitional-council (last visited May 13, 2024).

Humanitarian Concerns

In its 2024 annual report, Human Rights Watch (HRW) stated that “access to electricity, safe drinking water, sanitation, health care, and education was severely limited” in Haiti throughout 2023.²¹ The World Food Programme (WFP) reported in September 2023 that Haiti is “one of 9 countries facing starvation risks” amid high levels of food insecurity.²² Furthermore, Haiti faces an increasing number of cholera cases following the resurgence of cholera that began in October 2022.²³

²¹ World Report 2024—Haiti, Human Rights Watch, Jan. 11, 2024, available at https://www.ecoi.net/en/document/2103219.html (last visited Jan. 25, 2024).

²² Severe hunger persists in Haiti as violence intensifies in the capital, World Food Programme (WFP), Sep. 19, 2023, available at https://reliefweb.int/report/haiti/severe-hunger-persists-haiti-violence-intensifies-capital (last visited Jan. 30, 2024).

²³ Haiti | Earthquake and Cholera Outbreak—Emergency Appeal No. MDRHT018—Operation update #6, International Federation of Red Cross and Red Crescent Societies (IFRC), Nov. 3, 2023, available at https://reliefweb.int/report/haiti/haiti-earthquake-and-cholera-outbreak-emergency-appeal-no-mdrht018-operation-update-6 (last visited Jan. 25, 2024).

The International Organization for Migration (IOM) reported that, as of March 2024, 362,551 ²⁴ people are internally displaced across Haiti, a significant increase from a prior IOM report, which estimated that nearly 200,000 people were internally displaced as of October 2023.²⁵ According to the October 2023 IOM report, 31,000 people were sleeping in the open outdoors, and 34,000 people were reportedly crammed into classrooms used as shelter.²⁶ IOM also stated that “many families cannot meet their basic needs.” The lack of adequate housing for internally displaced persons is exacerbating already high tensions and “contributing to violence and increasing the risk of sexual assault.” ²⁷

²⁴ Haiti—Internal displacement situation in Haiti—West, South, South-East, Artibonite, Grande Anse, Centre and Nippes, Protection Services, International Organization for Migration (IOM), Mar. 2024, available at https://dtm.iom.int/reports/haiti-internal-displacement-situation-haiti-west-south-south-east-artibonite-grande-anse-0 (last visited Apr. 16, 2024).

²⁵ As Displacement Soars, Haiti Requires USD 21 Million for Emergency Shelter, Protection Services, International Organization for Migration (IOM), Oct. 10, 2023, available at https://reliefweb.int/report/haiti/displacement-soars-haiti-requires-usd-21-million-emergency-shelter-protection-services (last visited Jan. 25, 2024).

²⁶ Id.

²⁷ As Displacement Soars, Haiti Requires USD 21 Million for Emergency Shelter, Protection Services, International Organization for Migration (IOM), Oct. 10, 2023, available at https://reliefweb.int/report/haiti/displacement-soars-haiti-requires-usd-21-million-emergency-shelter-protection-services (last visited Jan. 25, 2024).

In November 2023, the WFP noted that Haiti “has one of the world's highest levels of chronic food insecurity with over half its total population chronically food insecure and 22 percent chronically malnourished children.” ²⁸ In July 2023, the International Crisis Group reported that “around half of all Haitians are now considered food insecure.” ²⁹ According to a 2024 BINUH report, this food insecurity is attributable in part to the security crisis, which has led to “dysfunction in the market supply chain.” ³⁰ Gangs charge “increasingly heavy illegal passage fees” to allow vehicles, including trucks transporting food, to transit the main roads in Haiti.³¹ In addition to the problems caused by the security crisis, the food shortages are also partly due to “the confluence of a global rise in food prices, depreciation of the local currency, and restrictions on internal transport,” which “have made food both scarce and unaffordable.” ³²

²⁸ Haiti Country Brief, World Food Programme (WFP), Nov. 2023, available at https://docs.wfp.org/api/documents/WFP-0000155417/download/?_ga=2.249432451.544473126.1706236500-581114880.1706236500 (last visited Jan. 25, 2024).

²⁹ Diego Da Rin, Haitians Turn to Mob Justice as the Gang Threat Festers, International Crisis Group, July 3, 2023, available at https://www.crisisgroup.org/latin-america-caribbean/haiti/haitians-turn-mob-justice-gang-threat-festers (last visited Jan. 24, 2024).

³⁰ United Nations Integrated Office in Haiti—Report of the Secretary-General, UN Security Council, Jan. 15, 2024, available at https://reliefweb.int/report/haiti/united-nations-integrated-office-haiti-report-secretary-general-s202462-enarruzh (last visited Jan. 23, 2024).

³¹ Id.

³² Tanvi Nagpal, No Easy Solutions: Understanding the Scale of the Humanitarian Crisis in Haiti, Center for Strategic & International Studies (CSIS), Dec. 12, 2023, https://www.csis.org/analysis/no-easy-solutions-understanding-scale-humanitarian-crisis-haiti (last visited Jan. 25, 2024).

Economic Concerns

According to The World Bank, “Haiti remains the poorest country in the Latin America and the Caribbean (LAC) region, and among the poorest countries in the world.” ³³ Haiti's economy has contracted for five straight years, from 2019 through 2023.³⁴ The World Economic Forum reported in February 2023 that Haiti had the tenth highest inflation in the world, “with year-on-year price increases of 53 percent.” ³⁵ Additionally, a survey conducted in March 2023 indicated that around two-thirds of Haitian households have experienced a significant reduction in their income.³⁶ The September 2023 report by the United Nations Panel of Experts noted that “violence and insecurity [in Haiti] not only undermine the political transition, but also decimate the national economy and threaten the future of the country, with many children not going to school and skilled people leaving the country.” ³⁷

³³ The World Bank in Haiti: Overview, The World Bank, Oct. 26, 2023, available at https://www.worldbank.org/en/country/haiti/overview (last visited Jan. 25, 2024).

³⁴ Haiti—Recession: Haiti's economy in free fall, −10.5% of GDP in total over 5 years, Haiti Libre, Jan. 3, 2024, available at https://www.haitilibre.com/en/news-41354-haiti-recession-haiti-s-economy-in-free-fall105-of-gdp-in-total-over-5-years.html (last visited Jan. 30, 2024).

³⁵ Johnny Wood, These countries have been the hardest hit by food price inflation, World Economic Forum, Feb. 21, 2023, available at https://www.weforum.org/agenda/2023/02/countries-hit-by-food-prices-inflation-cost-of-living-crisis/ (last visited Jan. 30, 2024).

³⁶ The World Bank in Haiti: Overview, The World Bank, Oct. 26, 2023, available at https://www.worldbank.org/en/country/haiti/overview (last visited Jan. 25, 2024).

³⁷ Final report of the Panel of Experts on Haiti, UN Security Council, Sep. 15, 2023, available at https://documents-dds-ny.un.org/doc/UNDOC/GEN/N23/246/28/PDF/N2324628.pdf (last visited Jan. 24, 2024).

Health Concerns

As of January 2024, there were an estimated 73,000 “confirmed and suspected cases” of cholera in Haiti, “across all 10 departments.” ³⁸ The resurgence of cholera began in October 2022, “after more than three years with no reported cases.” ³⁹ The World Health Organization stated in September 2023 that “access to clean water remains limited, contributing to the spread of cholera.” ⁴⁰ HRW reported in January 2024 that “only 55 percent of Haitian households had access to safe drinking water and two-thirds of the population had limited or no sanitation services, aggravating the spread of cholera” in 2023.⁴¹

³⁸ United Nations Integrated Office in Haiti—Report of the Secretary-General, UN Security Council, Jan. 15, 2024, available at https://reliefweb.int/report/haiti/united-nations-integrated-office-haiti-report-secretary-general-s202462-enarruzh (last visited Jan. 23, 2024).

³⁹ Cholera—Haiti, World Health Organization (WHO), Dec. 13, 2022, available at https://www.who.int/emergencies/disease-outbreak-news/item/2022-DON427 (last visited Jan. 24, 2024).

⁴⁰ Haiti Health Cluster, Navigating a Multifaceted Humanitarian Crisis, World Health Organization (WHO), Sep. 5, 2023, available at https://healthcluster.who.int/newsroom/news/item/05-09-2023-haiti-health-cluster-navigating-a-multifaceted-humanitarian-crisis (last visited on Jan. 24, 2024).

⁴¹ World Report 2024—Haiti, Human Rights Watch, Jan. 11, 2024, available at https://www.ecoi.net/en/document/2103219.html (last visited Jan. 25, 2024).

The International Federation of Red Cross reported in November 2023 that people in Haiti who contract cholera “face a greater likelihood of severe disease and death” because of “the current socioeconomic situation and complex humanitarian crisis, which includes recent closure of hospitals and reduced ambulance services, as well as overall poor health condition of the population, including acute malnutrition.” ⁴²

⁴² Haiti | Earthquake and Cholera Outbreak—Emergency Appeal No. MDRHT018—Operation update #6, International Federation of Red Cross and Red Crescent Societies (IFRC), Nov. 3, 2023, available at https://reliefweb.int/report/haiti/haiti-earthquake-and-cholera-outbreak-emergency-appeal-no-mdrht018-operation-update-6 (last visited Jan. 25, 2024).

The United Nations Panel of Experts noted that “Haiti is suffering one of its worst health care crises in its history.” ⁴³ The same source reported that “about 48 percent of hospitals in the Port-au-Prince metropolitan area are under gang influence or control, leading to forced closures due to attacks on patients, staff, or facilities.” ⁴⁴ Doctors and nurses have reportedly been “shot, robbed, and kidnapped while on their way to work.” ⁴⁵

⁴³ Final report of the Panel of Experts on Haiti, UN Security Council, Sep. 15, 2023, available at https://documents-dds-ny.un.org/doc/UNDOC/GEN/N23/246/28/PDF/N2324628.pdf (last visited Jan. 24, 2024).

⁴⁴ Id.

⁴⁵ Id.

HRW stated in its 2024 annual report on Haiti (covering the events of 2023) that “international organizations estimate that 75 percent of the country's health facilities have inadequate medical supplies and insufficient trained personnel,” and that “insecurity has triggered an exodus of health workers from Haiti in recent years.” ⁴⁶

⁴⁶ World Report 2024—Haiti, Human Rights Watch, Jan. 11, 2024, available at https://www.ecoi.net/en/document/2103219.html (last visited Jan. 25, 2024).

As of May 13, 2024, approximately 820 F-1 nonimmigrant students from Haiti are enrolled at SEVP-certified academic institutions in the United States. Given the extent of the current crisis in Haiti, affected students whose primary means of financial support comes from Haiti may need to be exempt from the normal student employment requirements to continue their studies in the United States. The current crisis has made it infeasible for many students to safely return to Haiti for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term. Undergraduate F-1 nonimmigrant students enrolled in a term of different duration must register for at least one half of the credit hours normally required under a “full course of study.” See 8 CFR 214.2(f)(6)(i)(B) and (F). A graduate-level F-1 nonimmigrant student who receives on-campus or off-campus employment authorization under this notice must remain registered for a minimum of three semester or quarter hours of instruction per academic term. See 8 CFR 214.2(f)(5)(v). Nothing in this notice affects the applicability of other minimum course load requirements set by the academic institution.

In addition, an F-1 nonimmigrant student (either undergraduate or graduate) granted on-campus or off-campus employment authorization under this notice may count up to the equivalent of one class or three credits per session, term, semester, trimester, or quarter of online or distance education toward satisfying this minimum course load requirement, unless their course of study is in an English language study program. See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of federal and state labor laws limiting the employment of minors.

May an eligible F-1 nonimmigrant student who already has on-campus or off-campus employment authorization benefit from the suspension of regulatory requirements under this notice?

Yes. An F-1 nonimmigrant student who is a Haitian citizen, regardless of country of birth (or an individual having no nationality who last habitually resided in Haiti), who already has on-campus or off-campus employment authorization and is otherwise eligible may benefit under this notice, which suspends certain regulatory requirements relating to the minimum course load requirement under 8 CFR 214.2(f)(6)(i) and certain employment eligibility requirements under 8 CFR 214.2(f)(9). Such an eligible F-1 nonimmigrant student may benefit without having to apply for a new Form I-766, Employment Authorization Document (EAD). To benefit from this notice, the F-1 nonimmigrant student must request that their designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently authorized for off-campus employment), or the end date of this notice, whichever date comes first].⁴⁷

⁴⁷ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of February 3, 2026, provided the student satisfies the minimum course load requirements in this notice.

Must the F-1 nonimmigrant student apply for reinstatement after expiration of this special employment authorization if the student reduces his or her “full course of study”?

No. DHS will deem an F-1 nonimmigrant student who receives and comports with the employment authorization permitted under this notice to be engaged in a “full course of study” ⁴⁸ for the duration of the student's employment authorization, provided that a qualifying undergraduate level F-1 nonimmigrant student remains registered for a minimum of six semester or quarter hours of instruction per academic term, and a qualifying graduate level F-1 nonimmigrant student remains registered for a minimum of three semester or quarter hours of instruction per academic term. See 8 CFR 214.2(f)(5)(v) and (f)(6)(i)(F). Undergraduate F-1 nonimmigrant students enrolled in a term of different duration must register for at least one half of the credit hours normally required under a “full course of study.” See 8 CFR 214.2(f)(6)(i)(B) and (F). DHS will not require such students to apply for reinstatement under 8 CFR 214.2(f)(16) if they are otherwise maintaining F-1 nonimmigrant status.

⁴⁸ See 8 CFR 214.2(f)(6).

Will an F-2 dependent (spouse or minor child) of an F-1 nonimmigrant student covered by this notice be eligible for employment authorization?

No. An F-2 spouse or minor child of an F-1 nonimmigrant student is not authorized to work in the United States and, therefore, may not accept employment while in F-2 nonimmigrant status, consistent with 8CFR 214.2(f)(15)(i).

Will the suspension of the applicability of the standard student employment requirements apply to an individual who receives an initial F-1 visa and makes an initial entry into the United States after the effective date of this notice in the Federal Register?

No. The suspension of the applicability of the standard regulatory requirements only applies to certain F-1 nonimmigrant students who meet the following conditions:

(1) Are a citizen of Haiti regardless of country of birth (or an individual having no nationality who last habitually resided in Haiti);

(2) Were lawfully present in the United States on the date of publication of this notice in F-1 nonimmigrant status, under section 101(a)(15)(F)(i) of the INA, 8 U.S.C. 1101(a)(15)(F)(i);

(3) Are enrolled in an academic institution that is SEVP-certified for enrollment of F-1 nonimmigrant students;

(4) Are maintaining F-1 nonimmigrant status; and

(5) Are experiencing severe economic hardship as a direct result of the current crisis in Haiti.

An F-1 nonimmigrant student who does not meet all these requirements is ineligible for the suspension of the applicability of the standard regulatory requirements (even if experiencing severe economic hardship as a direct result of the current crisis in Haiti).

Does this notice apply to a continuing F-1 nonimmigrant student who departs the United States after the effective date of this notice in the Federal Register and who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for F-1 nonimmigrant students from Haiti enrolled in kindergarten through grade 12 at a private school, or grades 9 through 12 at a public high school. Such students must maintain the minimum number of hours of class attendance per week prescribed by the academic institution for normal progress toward graduation, as required under 8 CFR 214.2(f)(6)(i)(E). The suspension of certain regulatory requirements related to employment through this notice is applicable to all eligible F-1 nonimmigrant students regardless of educational level. Eligible F-1 nonimmigrant students from Haiti enrolled in an elementary school, middle school, or high school may benefit from the suspension of the requirement in 8 CFR 214.2(f)(9)(i) that limits on-campus employment to 20 hours per week while school is in session.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session if the DSO has entered the following statement in the remarks field of the student's SEVIS record, which will be reflected on the student's Form I-20:

Approved for more than 20 hours per week of on-campus employment and reduced course load, under the Special Student Relief authorization from [DSO must insert the beginning date of this notice or the beginning date of the student's employment, whichever date is later] until [DSO must insert the student's program end date or the end date of this notice, whichever date comes first].⁴⁹

⁴⁹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of February 3, 2026, provided the student satisfies the minimum course load requirements in this notice.

To obtain on-campus employment authorization, the F-1 nonimmigrant student must demonstrate to the DSO that the employment is necessary to avoid severe economic hardship directly resulting from the current crisis in Haiti. An F-1 nonimmigrant student authorized by the DSO to engage in on-campus employment by means of this notice does not need to file any applications with U.S. Citizenship and Immigration Services (USCIS). The standard rules permitting full-time on-campus employment when school is not in session or during school vacations apply, as described in 8 CFR 214.2(f)(9)(i).

Will an F-1 nonimmigrant student who receives on-campus employment authorization under this notice have authorization to reduce the normal course load and still maintain his or her F-1 nonimmigrant student status?

Yes. DHS will deem an F-1 nonimmigrant student who receives on-campus employment authorization under this notice to be engaged in a “full course of study” ⁵⁰ for the purpose of maintaining their F-1 nonimmigrant student status for the duration of the on-campus employment, if the student satisfies the minimum course load requirement described in this notice, consistent with 8 CFR 214.2(f)(6)(i)(F). However, the authorization to reduce the normal course load is solely for DHS purposes of determining valid F-1 nonimmigrant student status. Nothing in this notice mandates that school officials allow an F-1 nonimmigrant student to take a reduced course load if the reduction would not meet the academic institution's minimum course load requirement for continued enrollment.⁵¹

⁵⁰ See 8 CFR 214.2(f)(6).

⁵¹ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while the school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ⁵² for the purpose of maintaining F-1 nonimmigrant student status for the duration of the student's employment authorization if the student satisfies the minimum course load requirement described in this notice, consistent with 8 CFR 214.2(f)(6)(i)(F). The authorization for a reduced course load is solely for DHS purposes of determining valid F-1 nonimmigrant student status. Nothing in this notice mandates that school officials allow an F-1 nonimmigrant student to take a reduced course load if such reduced course load would not meet the school's minimum course load requirement.⁵³

⁵² See 8 CFR 214.2(f)(6).

⁵³ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the current crisis in Haiti.⁵⁴ Filing instructions are located at https://www.uscis.gov/i-765.

⁵⁴ See 8 CFR 274a.12(c)(3)(iii).

Fee considerations. Submission of a Form I-765 currently requires payment of a $520 fee. An applicant who is unable to pay the fee may submit a completed Form I-912, Request for Fee Waiver, along with the Form I-765, Application for Employment Authorization. See https://www.uscis.gov/i-912. The submission must include an explanation about why USCIS should grant the fee waiver and the reason(s) for the inability to pay, and any evidence to support the reason(s). See 8 CFR 106.2 and 106.3.

Supporting documentation. An F-1 nonimmigrant student seeking off-campus employment authorization due to severe economic hardship must demonstrate the following to their DSO:

(1) This employment is necessary to avoid severe economic hardship; and

(2) The hardship is a direct result of the current crisis in Haiti.

If the DSO agrees that the F-1 nonimmigrant student is entitled to receive such employment authorization, the DSO must recommend application approval to USCIS by entering the following statement in the remarks field of the student's SEVIS record, which will then appear on that student's Form I-20:

Recommended for off-campus employment authorization in excess of 20 hours per week and reduced course load under the Special Student Relief authorization from the date of the USCIS authorization noted on Form I-766 until [DSO must insert the program end date or the end date of this notice, whichever date comes first].⁵⁵

⁵⁵ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of February 3, 2026, provided the student satisfies the minimum course load requirements in this notice.

The F-1 nonimmigrant student must then file the properly endorsed Form I-20 and Form I-765 according to the instructions for the Form I-765. The F-1 nonimmigrant student may begin working off campus only upon receipt of the EAD from USCIS.

DSO recommendation. In making a recommendation that an F-1 nonimmigrant student be approved for Special Student Relief, the DSO certifies that:

(a) The F-1 nonimmigrant student is in good academic standing and is carrying a “full course of study” ⁵⁶ at the time of the request for employment authorization;

⁵⁶ See 8 CFR 214.2(f)(6).

(b) The F-1 nonimmigrant student is a citizen of Haiti, regardless of country of birth (or an individual having no nationality who last habitually resided in Haiti), and is experiencing severe economic hardship as a direct result of the current crisis in Haiti, as documented on the Form I-20;

(c) The F-1 nonimmigrant student has confirmed that the student will comply with the reduced course load requirements of this notice and register for the duration of the authorized employment for a minimum of six semester or quarter hours of instruction per academic term if at the undergraduate level, or for a minimum of three semester or quarter hours of instruction per academic term if the student is at the graduate level; ⁵⁷ and

⁵⁷ 8 CFR 214.2(f)(5)(v).

(d) The off-campus employment is necessary to alleviate severe economic hardship to the individual as a direct result of the current crisis in Haiti.

Processing. To facilitate prompt adjudication of the student's application for off-campus employment authorization under 8 CFR 214.2(f)(9)(ii)(C), the F-1 nonimmigrant student should do both of the following:

(a) Ensure that the application package includes the following documents:

(1) A completed Form I-765 with all applicable supporting evidence;

(2) The required fee or properly documented fee waiver request as defined in 8 CFR 106.2 and 106.3; and

(3) A signed and dated copy of the student's Form I-20 with the appropriate DSO recommendation, as previously described in this notice; and

(b) Send the application in an envelope which is clearly marked on the front of the envelope, bottom right-hand side, with the phrase “SPECIAL STUDENT RELIEF.” ⁵⁸ Failure to include this notation may result in significant processing delays.

⁵⁸ Guidance for direct filing addresses can be found here: https://www.uscis.gov/i-765-addresses.

If USCIS approves the student's Form I-765, USCIS will send the student a Form I-766 EAD as evidence of employment authorization. The EAD will contain an expiration date that does not exceed the end of the granted temporary relief.

Temporary Protected Status (TPS) Considerations

Can an F-1 nonimmigrant student apply for TPS and for benefits under this notice at the same time?

Yes. An F-1 nonimmigrant student who has not yet applied for TPS or for other relief that reduces the student's course load per term and permits an increased number of work hours per week, such as Special Student Relief,⁵⁹ under this notice has two options.

⁵⁹ See DHS Study in the States, Special Student Relief, https://studyinthestates.dhs.gov/students/special-student-relief (last visited Feb. 28, 2024).

Under the first option, the F-1 nonimmigrant student may apply for TPS according to the instructions in the USCIS notice designating Haiti for TPS elsewhere in this issue of the Federal Register. All TPS applicants must file a Form I-821, Application for Temporary Protected Status, with the appropriate fee (or request a fee waiver). Although not required to do so, if F-1 nonimmigrant students want to obtain a new TPS-related EAD that is valid through February 3, 2026, and to be eligible for automatic EAD extensions that may be available to certain EADs with an A-12 or C-19 category code, they must file Form I-765 and pay the Form I-765 fee (or request a fee waiver). After receiving the TPS-related EAD, an F-1 nonimmigrant student may request that their DSO make the required entry in SEVIS and issue an updated Form I-20, which notates that the nonimmigrant student has been authorized to carry a reduced course load, as described in this notice. As long as the F-1 nonimmigrant student maintains the minimum course load described in this notice, does not otherwise violate their nonimmigrant status, including as provided under 8 CFR 214.1(g), and maintains TPS, then the student maintains F-1 status and TPS concurrently.

Under the second option, the F-1 nonimmigrant student may apply for an EAD under Special Student Relief by filing Form I-765 with the location specified in the filing instructions. At the same time, the F-1 nonimmigrant student may file a separate TPS application but must submit the Form I-821 according to the instructions provided in the Federal Register notice designating Haiti for TPS. If the F-1 nonimmigrant student has already applied for employment authorization under Special Student Relief, they are not required to submit the Form I-765 as part of the TPS application. However, some nonimmigrant students may wish to obtain a TPS-related EAD in light of certain extensions that may be available to EADs with an A-12 or C-19 category code that are not available to the C-3 category under which Special Student Relief falls. The F-1 nonimmigrant student should check the appropriate box when filling out Form I-821 to indicate whether a TPS-related EAD is being requested. Again, as long as the F-1 nonimmigrant student maintains the minimum course load described in this notice and does not otherwise violate the student's nonimmigrant status, included as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁶⁰ unless or until the nonimmigrant student receives employment authorization under this notice. TPS-related employment authorization, by itself, does not authorize a nonimmigrant student to drop below twelve credit hours, or otherwise applicable minimum requirements (e.g., clock hours for non-traditional academic programs). Once approved for a TPS-related EAD and Special Student Relief employment authorization, as indicated by the DSO's required entry in SEVIS and issuance of an updated Form I-20, the F-1 nonimmigrant student may drop below twelve credit hours, or otherwise applicable minimum requirements (with a minimum of six semester or quarter hours of instruction per academic term if at the undergraduate level, or for a minimum of three semester or quarter hours of instruction per academic term if at the graduate level). See 8 CFR 214.2(f)(5)(v), (f)(6), and (f)(9)(i) and (ii).

⁶⁰ See 8 CFR 214.2(f)(6).

How does a student who has received a TPS-related EAD then apply for authorization to take a reduced course load under this notice?

There is no further application process with USCIS if a student has been approved for a TPS-related EAD. The F-1 nonimmigrant student must demonstrate and provide documentation to the DSO of the direct economic hardship resulting from the current crisis in Haiti. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Regulations permit certain students who fall out of F-1 nonimmigrant student status to apply for reinstatement. See 8 CFR 214.2(f)(16). This provision may apply to students who worked on a TPS-related EAD or dropped their course load before publication of this notice, and therefore fell out of student status. These students must satisfy the criteria set forth in the F-1 nonimmigrant student status reinstatement regulations.

How long will this notice remain in effect?

This notice grants temporary relief until February 3, 2026,⁶¹ to eligible F-1 nonimmigrant students. DHS will continue to monitor the situation in Haiti. Should the special provisions authorized by this notice need modification or extension, DHS will announce such changes in the Federal Register.

⁶¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of February 3, 2026, provided the student satisfies the minimum course load requirements in this notice.

Paperwork Reduction Act (PRA)

An F-1 nonimmigrant student seeking off-campus employment authorization due to severe economic hardship resulting from the current crisis in Haiti must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765, consistent with the PRA (OMB Control Number 1615-0040). Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2024-14232 Filed 6-28-24; 8:45 am]

BILLING CODE 9111-CB-P